DEPARTMENT OF AGRICULTURE

Food Safety and Inspection Service

[Docket No. FSIS-2010-0034]

Notice of Request for a New Information Collection (Public Health Information System)

AGENCY: Food Safety and Inspection Service, USDA.

ACTION: Notice and request for comments.

SUMMARY: In accordance with the Paperwork Reduction Act of 1995 and Office of Management and Budget (OMB) regulations, the Food Safety and Inspection Service (FSIS) is announcing its intention to request a new information collection concerning its Web-based Public Health Information System.

DATES: Comments on this notice must be received on or before February 7, 2011.

ADDRESSES: FSIS invites interested persons to submit comments on this notice. Comments may be submitted by either of the following methods:

• Federal eRulemaking Portal: This Web site provides the ability to type short comments directly into the comment field on this Web page or attach a file for lengthier comments. Go to http://www.regulations.gov. Follow the on-line instructions at that site for submitting comments.

• Mail, including floppy disks or CD-ROMs, and hand- or courier-delivered items: Send to Docket Clerk, U.S. Department of Agriculture, Food Safety and Inspection Service, Room 2-2127, George Washington Carver Center, 5601 Sunnyside Avenue, Mailstop 5272, Beltsville, MD 20705-5272.

Instructions: All items submitted by mail or electronic mail must include the Agency name and docket number FSIS-2010-0034. Comments received in response to this docket will be made available for public inspection and posted without change, including any personal information, to http://www.regulations.gov.

Docket: For access to background documents or comments received, go to the FSIS Docket Room at the address listed above between 8 a.m. and 4:30 p.m., Monday through Friday.

For Additional Information: Contact John O'Connell, Paperwork Reduction Act Coordinator, Food Safety and Inspection Service, USDA, 1400 Independence Avenue, SW., Room 6065, South Building, Washington, DC 20250; (202) 720-0345.

SUPPLEMENTARY INFORMATION: Title: Public Health Information System (PHIS).

Type of Request: New information collection.

Abstract: FSIS has been delegated the authority to exercise the functions of the Secretary as specified in the Federal Meat Inspection Act (FMIA) (21 U.S.C. 601, et seq.), the Poultry Products Inspection Act (PPIA) (21 U.S.C. 451, et seq.), and the Egg Products Inspection Act (EPIA) (21 U.S.C., et seq.). FSIS protects the public by verifying that meat, poultry, and egg products are safe, wholesome, not adulterated, and correctly labeled and packaged.

FSIS is developing a new Web-based system that will improve FSIS inspection operations and facilitate industry members' applications for inspection, export, and import of meat, poultry, and egg products. When the Agency implements PHIS, industry members will use current and new FSIS forms in PHIS. Industry will be able to submit some of these forms through a series of on-line screens in PHIS; other forms will be available in PHIS only as electronic forms. Paper forms will also be available to firms that do not wish to use PHIS, except for two forms, the Transfer Certificate and the Split/Consolidate Certificate. FSIS believes that these forms will be used only by large exporters who definitely will take advantage of PHIS.

To submit information through PHIS, firms' employees will need to register for a USDA eAuthentication account with Level 2 access. An eAuthentication account enables individuals within and outside of USDA to obtain user-identification accounts to access a wide range of USDA applications through the Internet. The Level 2 access will provide users the ability to conduct official electronic business transactions. To register for a Level 2 eAuthentication account, the user will need to have access to the Internet and a valid e-mail address. To learn more about eAuthentication and how to register for an account, visit the USDA Web site at http://www.eauth.egov.usda.gov/.

Consistent with its current procedures, when FSIS implements PHIS, FSIS will continue to collect information from firms regarding application for inspection and for the export and import of meat, poultry, and egg products. With the implementation of PHIS, firms may complete up to three new forms (on-line screen sets) in PHIS when exporting meat, poultry, and egg products (9 CFR 322.2, 381.107, and 590.200). FSIS Form 9080-4, Product List, will be used to provide details about products that each FSIS—regulated firm exports, thus enabling FSIS to verify whether that product is eligible for export to the specified country. A Transfer Certificate will be submitted by exporters to FSIS for only a few countries when product is transferred from one establishment/plant to another facility before export. A Split/Consolidated Certificate will be submitted by exporters to indicate that an export shipment approved by FSIS for export is being split and sent to two separate destinations or that two or more FSIS-approved export shipments to the same country are being combined.

FSIS Form 9080-3, Establishment Application for Export, is currently completed by exporters to specify countries where they wish to export product (9 CFR 322.2 and 381.105). FSIS uses this information to track the export of product. This form is currently approved for meat and poultry products (OMB Control Number 0583-0082). FSIS is requesting its use for egg products as well (9 CFR 590.200) and its conversion to a set of on-line screens for use in PHIS.

The Application for Export Certificate, FSIS Form 9060-6, is currently approved for the export of meat and poultry products (OMB Control Number 0583-0094). This form provides FSIS with important data necessary to facilitate the export of product (9 CFR 322.2 and 381.105). FSIS is requesting the additional use of the form for egg products and its conversion to a set of on-line screens for use in PHIS (9 CFR 590.200).

The exporter of product that is exported and then returned to this country is to complete FSIS Form 9010-1, Application for the Return of Exported Products to the United States, to arrange for the product's entry and to notify FSIS (9 CFR 327.17, 381.209, and 590.965). This form is currently approved under OMB Control Number 0853-0138. FSIS is now requesting its conversion to a series of on-line screens for inclusion in PHIS.

Importers that import meat and poultry products into the United States currently complete FSIS Form 9540-1 for re-inspection of the product by FSIS (9 CFR 327.5 and 381.198(a)). This form is currently approved for the import of meat and poultry products (OMB Control Number 0853-138). FSIS is requesting its use also for egg products (9 CFR 590.900) and its conversion to a series of on-line screens for inclusion in PHIS.

The following three forms will be available in PHIS but not as a series of on-line screens: FSIS Form 5200-2, Application for Federal Inspection; FSIS Form 5200-6, Application for Approval of Voluntary Inspection; and FSIS Form 5200-15, Hours of Operation.

All official establishments currently complete and submit FSIS Form 5200-2, Application for Federal Inspection, to receive a grant of inspection (9 CFR 304.1 and 381.17) (OMB Control Number 0583-0082). FSIS is requesting that the form be changed to include egg products (590.140 and 590.146).

Establishments that want voluntary inspection currently complete and submit FSIS Form 5200-6, Application for Approval of Voluntary Inspection (9 CFR 350.5, 351.4, 352.3, and 362.3) (OMB Control Number 0583-0082). FSIS is now requesting that the form be changed to include egg products (592.130 and 592.140).

FSIS is requesting use of the new FSIS Form 5200-15, Hours of Operation, as the means by which an establishment or plant will notify the Agency of a change in its hours of operation (9 CFR 307.4, 381.37, 590.124, and 592.96).

FSIS has made the following estimates based upon an information collection assessment:

Estimate of Burden: FSIS estimates that it will take respondents an average of 79.6 hours per year.

Respondents: Official establishments, official plants, importers, and exporters.

Estimated No. of Respondents: 770.

Estimated No. of Annual Responses per Respondent: 465.5.

Estimated Total Annual Burden on Respondents: 61,329 hours.

Copies of this information collection assessment can be obtained from John O'Connell, Paperwork Reduction Act Coordinator, Food Safety and Inspection Service, USDA, 1400 Independence, SW., Room 6065, South Building, Washington, DC 20250; (202) 720-0345.

Comments are invited on: (a) Whether the proposed collection of information is necessary for the proper performance of FSIS's functions, including whether the information will have practical utility; (b) the accuracy of FSIS's estimate of the burden of the proposed collection of information, including the validity of the methodology and assumptions used; (c) ways to enhance the quality, utility, and clarity of the information to be collected; and (d) ways to minimize the burden of the collection of information, including through the use of appropriate automated, electronic, mechanical, or other technological collection techniques, or other forms of information technology. Comments may be sent both to FSIS, at the addresses provided above, and to the Desk Officer for Agriculture, Office of Information and Regulatory Affairs, Office of Management and Budget, Washington, DC 20253.

Responses to this notice will be summarized and included in the request for OMB approval. All comments will also become a matter of public record.

USDA Nondiscrimination Statement

The U.S. Department of Agriculture (USDA) prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations/2010_Notices_Index/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience.

In addition, FSIS offers an e-mail subscription service which provides automatic and customized access to selected food safety news and information. This service is available at http://www.fsis.usda.gov/News_&_Events/Email_Subscription/. Options range from recalls to export information to regulations, directives and notices. Customers can add or delete subscriptions themselves, and have the option to password protect their accounts.

Done at Washington, DC, on December 2, 2010.
Alfred V. Almanza,
Administrator.

[FR Doc. 2010-30875 Filed 12-7-10; 8:45 am]

BILLING CODE 3410-DM-P